DEPARTMENT OF THE INTERIOR

Minerals Management Service

Environmental Documents Prepared for Proposed Oil and Gas Operations on the Gulf of Mexico Outer Continental Shelf (OCS)

AGENCY: Minerals Management Service, Interior.

ACTION: Notice of the availability of environmental documents, prepared for OCS Mineral Proposals on the Gulf of Mexico OCS.

SUMMARY: Minerals Management Service (MMS), in accordance with Federal Regulations that implement the National Environmental Policy Act (NEPA), announces the availability of NEPA-related Site-Specific Environmental Assessments (SEA) and Findings of No Significant Impact (FONSI), prepared by MMS for the following oil and gas activities proposed on the Gulf of Mexico OCS.

FOR FURTHER INFORMATION CONTACT: Public Information Unit, Information Services Section at the number below. Minerals Management Service, Gulf of Mexico OCS Region, Attention: Public Information Office (MS 5034), 1201 Elmwood Park Boulevard, Room 114, New Orleans, Louisiana 70123-2394, or by calling 1-800-200-GULF.

SUPPLEMENTARY INFORMATION: MMS prepares SEAs and FONSIs for proposals that relate to exploration for and the development/production of oil and gas resources on the Gulf of Mexico OCS. These SEAs examine the potential environmental effects of activities described in the proposals and present MMS conclusions regarding the significance of those effects. Environmental Assessments are used as a basis for determining whether or not approval of the proposals constitutes major Federal actions that significantly affect the quality of the human environment in the sense of NEPA Section 102(2)(C). A FONSI is prepared in those instances where MMS finds that approval will not result in significant effects on the quality of the human environment. The FONSI briefly presents the basis for that finding and includes a summary or copy of the SEA.

This notice constitutes the public notice of availability of environmental documents required under the NEPA Regulations.

This listing includes all proposals for which the Gulf of Mexico OCS Region prepared a FONSI in the period subsequent to publication of the preceding notice.

Activity/Operator | Location | Date
Newfield Exploration Company, Initial Development Operations Coordination Document & Right-of-Way Pipeline, SEA N-8758 & P-15812 | High Island, Blocks A-353, A-366 & A-352, Leases OCS-G 24425, 24429 & 24424 respectively, located approximately 113 miles from the nearest Louisiana shoreline | 11/9/2006
BP Exploration & Production, Inc., Geological & Geophysical Prospecting for Mineral Resources, SEA L07-02 | Located in the central Gulf of Mexico south of Fourchon, Louisiana | 1/16/2007
Anadarko Petroleum Corporation, Right-of-Way Pipeline Modification, SEA P-15101 | DeSoto Canyon, Blocks 621, 620, 664, 663, 707, 706, 705 & 749; Mississippi Canyon, Blocks 789, 833, 832, 876 & 920; Leases OCS-G 23529, 23528, 23532, 25859, 25861 & 25860; located approximately 98 miles south of Gulf Shores, Alabama | 1/23/2007
PGS Geophysical, Geological & Geophysical Prospecting for Mineral Resources for Multi-Klient Invest AS, Oslo, Norway, SEA L07-01 | Located in the central Gulf of Mexico southeast of Cameron, Louisiana | 1/24/2007
BP Exploration & Production, Inc., Geological & Geophysical Exploration of Mineral Resources, SEA L07-03 | Located in the eastern Gulf of Mexico south of Fourchon, Louisiana | 1/24/2007
SPN Resources, LLC, Structure Removal, SEA ES/SR 07-010, 07-012, 07-013 | High Island, Blocks 134, 134 & 133 and Leases OCS-G 06158 & 18938 respectively, located 28 miles from the nearest Louisiana shoreline | 1/31/2007
Dominion Exploration & Production, Inc., Structure Removal, SEA ES/SR 07-007 | Ship Shoal, Block 225, Lease OCS-G 21657, located 54 miles from the nearest Louisiana shoreline | 1/31/2007
Maritech Resources, Inc., Structure Removal, SEA ES/SR 07-011 | Vermilion, Block 57, Lease OCS-G 03977, located 10 miles from the nearest Louisiana shoreline | 1/31/2007
Maritech Resources, Inc., Structure Removal, SEA ES/SR 07-006 | West Cameron, Block 206, OCS-G 03496, located 33 miles from the nearest Louisiana shoreline | 2/1/2007
Chevron U.S.A., Inc., Structure Removal, SEA ES/SR 07-017 | Viosca Knoll, Block 161, Lease OCS-G 06876, located 43 miles from the nearest Louisiana shoreline | 2/6/2007
Energy Resource Technology, Inc., Structure Removal, SEA ES/SR 07-002 | Brazos, Block 436, Lease OCS-G 04258, located 12 miles from the nearest Texas shoreline | 2/7/2007
Remington Oil & Gas Corporation, Structure Removal, SEA ES/SR 07-016 | East Cameron, Block 140, Lease OCS-G 25950, located 40 miles from the nearest Louisiana shoreline | 2/7/2007
Energy Resource Technology, Inc., Structure Removal, SEA ES/SR 07-003 | East Cameron, Block 222, Lease OCS-G 02037, located 67 miles from the nearest Louisiana shoreline | 2/7/2007
Energy Resource Technology, Inc., Structure Removal, SEA ES/SR 06-008 | East Cameron, Block 231, Lease OCS-G 02038, located 69 miles from the nearest Louisiana shoreline | 2/7/2007
Chevron U.S.A., Inc., Structure Removal, SEA ES/SR 06-011 | South Timbalier, Block 51, Lease OCS-G 01240, located 10 miles from the nearest Louisiana shoreline | 3/31/2006
Newfield Exploration Company, Structure Removal, SEA ES/SR 06-017 | West Cameron, Block 146, Lease OCS-G 01996, located 21 miles from the nearest Louisiana shoreline | 3/31/2006
SPN Resources, Structure Removal, SEA ES/SR 07-014 | High Island, Block A-153, Lease OCS-G 18946, located 84 miles from the nearest Texas shoreline | 2/8/2007
Stone Energy Corporation, Structure Removal, SEA ES/SR 07-024 | South Marsh Island, Block 235, Lease OCS-G 15231, located 16 miles from the nearest Louisiana shoreline | 2/8/2007
Apache Corporation, Structure Removal, SEA ES/SR 07-005 | Eugene Island, Block 196, Lease OCS-G 00802, located 48 miles from the nearest Louisiana shoreline | 2/12/2007
Chevron U.S.A., Inc., Structure Removal, SEA ES/SR 07-018 | Ship Shoal, Block 100, Lease OCS-G 07750, located 22 miles from the nearest Louisiana shoreline | 2/13/2007
Tana Exploration Company, LLC, Structure Removal, SEA ES/SR 07-023 | Ship Shoal, Block 133, Lease OCS-G 23897, located 22 miles from the nearest Louisiana shoreline | 2/13/2007
Maritech Resources, Inc., Structure Removal, SEA ES/SR 06-029 | Grand Isle, Block 68, Lease OCS-G 15353, located 28 miles from the nearest Louisiana shoreline | 2/16/2007
Energy Partners, LTD, Structure Removal, SEA ES/SR 07-025 | South Timbalier, Block 41, Lease OCS-G 24954, located 13 miles from the nearest Louisiana shoreline | 2/21/2007
CGGVERITAS, Geological & Geophysical Prospecting for Mineral Resources, SEA T07-02 | Located in the central and western Gulf of Mexico south of Morgan City, Louisiana | 2/22/2007
TGS-NOPEC Geophysical Company for Fugro-Geoteam AS, Geological & Geophysical Prospecting for Mineral Resources, SEA L07-04 | Located in the central and western Gulf of Mexico south of Morgan City, Louisiana | 2/22/2007
Energy Resources Technology, Inc., Structure Removal, SEA ES/SR 07-004 | East Cameron, Block 231, Lease OCS-G 02038, located 69 miles from the nearest Louisiana shoreline | 2/23/2007
Apache Corporation, Structure Removal, SEA ES/SR 06-076A | Grand Isle, Block 82, Lease OCS-G 05659, located 29 miles from the nearest Louisiana shoreline | 2/28/2007
Chevron U.S.A., Inc., Structure Removal, SEA ES/SR 07-027 | Eugene Island, Block 113A, Lease OCS-G 04442, located 26 miles from the nearest Louisiana shoreline | 3/7/2007
Maritech Resources, Inc., Structure Removal, SEA ES/SR 07-021 & 07-022 | Eugene Island, Block 128, Lease OCS-00053, located 32 miles from the nearest Louisiana shoreline | 3/7/2007
Chevron U.S.A., Inc., Structure Removal, SEA ES/SR 07-031 | Mobile, Block 947, Lease OCS-G 07849, located 19 miles from the nearest Louisiana shoreline | 3/7/2007
Walter Oil & Gas Corporation, Structure Removal, SEA ES/SR 07-026 | Sabine Pass, Block 6, Lease OCS-G 18121, located 13 miles from the nearest Texas shoreline | 3/7/2007
Chevron Environmental Management Company, Structure Removal, SEA ES/SR 07-028 | Ship Shoal, Block 108, Lease OCS-00814, located 23 miles from the nearest Louisiana shoreline | 3/7/2007
Newfield Exploration Company, Structure Removal, SEA ES/SR 07-032 | West Delta, Block 102, Lease OCS-G 21130, located 23 miles from the nearest Louisiana Shoreline | 3/7/2007
Newfield Exploration Company, Structure Removal, SEA ES/SR 07-030 | Brazos, Block A7, Lease OCS-G 04558, located 25 miles from the nearest Texas | 3/8/2007
Apache Corporation, Structure Removal, SEA ES/SR 06-119 | High Island, Block A571, Lease OCS-G 02391, located 99 miles from the nearest Louisiana shoreline | 3/8/2007
BP Exploration & Production Inc., Geological & Geophysical Prospecting for Mineral Resources for Schlumberger, SEA L07-07 | Located in the central Gulf of Mexico south of Fourchon, Louisiana | 3/8/2007
CGG Veritas, Geological & Geophysical Prospecting for Mineral Resources, SEA ES/SR L07-06 | Located in the central Gulf of Mexico south of Fourchon, Louisiana | 3/8/2007
Newfield Exploration Company, Structure Removal, SEA ES/SR 07-034 | Ship Shoal, Block 57, Lease OCS-G 22696, located 15 miles from the nearest Louisiana shoreline | 3/9/2007
Newfield Exploration Company, Structure Removal, SEA ES/SR 07-033 | West Cameron, Block 146, Lease OCS-G 01996, located 22 miles from the nearest Louisiana shoreline | 3/9/2007
Apache Corporation, Structure Removal, SEA ES/SR 06-120A | Ship Shoal, Block 292, Lease OCS-G 12000, located 55 miles from the nearest Louisiana Shoreline | 3/20/2007
Noble Energy, Inc., Structure Removal, SEA ES/SR 05-111, 05-112 & 05-113 | Main Pass, Blocks 293, 305 & 306 and Leases OCS-G 21712, 01676 & 01677 respectively, located approximately 30 miles from the nearest Louisiana shoreline | 3/26/2007
Noble Energy, Inc., Structure Removal, SEA ES/SR 05-164 | Main Pass, Block 306, Lease OCS-G 01677, located 29 miles from the nearest Louisiana shoreline | 3/26/2007
Walter Oil & Gas Corporation, Structure Removal, SEA ES/SR 07-020 | Eugene Island, Block 72, Lease OCS-G 10720, located 18 miles from the nearest Louisiana shoreline | 3/27/2007
Energy Resource Technology, Inc., Structure Removal, SEA ES/SR 06-008A | East Cameron, Block 231, Lease OCS-G 02038, located 69 miles from the nearest Louisiana shoreline | 3/27/2007
Maritech Resources, Inc., Structure Removal, SEA ES/SR 06-027A | South Marsh, Block 125, Lease OCS-G 02882, located 73 miles from the nearest Louisiana shoreline | 3/27/2007
Energy Resource Technology, Inc., Structure Removal, SEA ES/SR 07-003A | East Cameron, Block 222, Lease OCS-G 02037, located 67 miles from the nearest Louisiana shoreline | 3/28/2007
Energy Resource Technology, Inc., Structure Removal, SEA ES/SR 06-007A | East Cameron, Block 231, Lease OCS-G 02038, located 65 miles from the nearest Louisiana shoreline | 3/28/2007

Persons interested in reviewing environmental documents for the proposals listed above or obtaining information about SEAs and FONSIs prepared for activities on the Gulf of Mexico OCS are encouraged to contact MMS at the address or telephone listed in the FOR FURTHER INFORMATION section.

Dated: April 12, 2007.
Lars Herbst,
Acting Regional Director, Gulf of Mexico OCS Region.

[FR Doc. E7-9888 Filed 5-22-07; 8:45 am]

BILLING CODE 4310-MR-P